DEPARTMENT OF TRANSPORTATION

Research and Special Programs Administration

International Standards on the Transport of Dangerous Goods; Public Meetings

AGENCY: Research and Special Programs Administration (RSPA), Department of Transportation.

ACTION: Notice of public meeting.

SUMMARY: This notice is to advise interested persons that RSPA will conduct a public meeting in preparation for the eighteenth meeting of the International Civil Aviation Organization's Dangerous Goods Panel to be held October 15-25, 2001 in Montreal, Canada.

DATES: October 3, 10 AM-12:30 PM, Room 6332-6336.

ADDRESSES: The meeting will be held at DOT Headquarters, NassifBuilding, Room 6332-6336, 400 Seventh Street SW., Washington, DC 20590.

FOR FURTHER INFORMATION CONTACT: Bob Richard, International Standards Coordinator, Office of Hazardous Materials Safety, Department of Transportation, Washington, DC 20590; (202) 366-0656.

SUPPLEMENTARY INFORMATION: The purpose of the meeting will be to prepare and discuss positions for the eighteenth meeting of the Dangerous Goods Panel. Topics to be covered during the public meeting will include (1) Air transport packaging requirements, (2) Requirements for lithium batteries, (3) Requirements for cryogenic liquefied gas receptacles, (4) Requirements for UN marked compressed gas cylinders, (5) Harmonization with the 12th revised edition of the UN Model Regulations, (6) Dangerous goods carried by passengers and crew members, (7) Information requirements on the air waybill and notification to pilot in command (NOTOC), (8) Infectious substance requirements, and (9) Incident reporting.

The public is invited to attend without prior notification.

Dated: September 5, 2001.
Robert A. McGuire,
Associate Administrator for Hazardous Materials Safety.

[FR Doc. 01-22657 Filed 9-7-01; 8:45 am]

BILLING CODE 4910-60-M